ENVIRONMENTAL PROTECTION AGENCY

40 CFR Part 52

[R04-OAR-2005-GA-0004-200504(a); FRL-7909-3]

Approval and Promulgation of Implementation Plans Georgia: Approval of Revisions to the Georgia State Implementation Plan

AGENCY: Environmental Protection Agency (EPA).

ACTION: Direct final rule.

SUMMARY: The EPA is approving the State Implementation Plan (SIP) revisions submitted by the State of Georgia, through the Georgia Environmental Protection Division (GAEPD), on March 15, 2005. These revisions pertain to Georgia's rules for Air Quality Control. These revisions were the subject of a public hearing held on March 18, 2004, adopted by the Board of Natural Resources on April 28, 2004, and became effective on July 8, 2004. On September 26, 2003, EPA published a final rule in the Federal Register (see 68 FR 55469) reclassifying the Atlanta 1-hour ozone nonattainment area from serious to severe. These revisions satisfy the additional requirements for severe 1-hour ozone nonattainment areas.

DATES: This direct final rule is effective July 8, 2005 without further notice, unless EPA receives adverse comment by June 8, 2005. If adverse comment is received, EPA will publish a timely withdrawal of the direct final rule in the Federal Register and inform the public that the rule will not take effect.

ADDRESSES: Submit your comments, identified by Regional Material in EDocket (RME) ID No. R04-OAR-2005-GA-0004, by one of the following methods:

1. Federal eRulemaking Portal: http://www.regulations.gov. Follow the on-line instructions for submitting comments.

2. Agency Web site: http://docket.epa.gov/rmepub/ RME, EPA's electronic public docket and comment system, is EPA's preferred method for receiving comments. Once in the system, select “quick search,” then key in the appropriate RME Docket identification number. Follow the on-line instructions for submitting comments.

3. E-mail: martin.scott@epa.gov.

4. Fax: (404) 562-9019.

5. Mail: “R04-OAR-2005-GA-0004”, Regulatory Development Section, Air Planning Branch, Air, Pesticides and Toxics Management Division, U.S. Environmental Protection Agency, Region 4, 61 Forsyth Street, SW., Atlanta, Georgia 30303-8960.

6. Hand Delivery or Courier. Deliver your comments to: Scott M. Martin, Regulatory Development Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to RME ID No. R04-OAR-2005-GA-0004. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through RME, regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Regulatory Development Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 to 4:30, excluding federal holidays.

FOR FURTHER INFORMATION CONTACT: Scott M. Martin, Regulatory Development Section, Air Planning Branch, Air, Pesticides and Toxics Management Division, U.S. Environmental Protection Agency, Region 4, 61 Forsyth Street, SW., Atlanta, Georgia 30303-8960. The telephone number is (404) 562-9036. Mr. Martin can also be reached via electronic mail at martin.scott@epa.gov.

SUPPLEMENTARY INFORMATION: The use of “we,” “us,” or “our” in this document refers to EPA.

Table of Contents

I. General Information

II. Background

III. Analysis of State's Submittal

IV. Final Action

V. Statutory and Executive Order Reviews

I. General Information

A. How Can I Get Copies of This Document and Other Related Information?

In addition to the publicly available docket materials available for inspection electronically in Regional Material in EDocket, and the hard copy available at the Regional Office, which are identified in the ADDRESSES section above, copies of the State submittal and EPA's technical support document are also available for public inspection during normal business hours, by appointment at the State Air Agency. Air Protection Branch, Georgia Environmental Protection Division, Georgia Department of Natural Resources, 4244 International Parkway, Suite 120, Atlanta, Georgia 30354. Telephone (404) 363-7000.

II. Background

The EPA is approving the SIP revisions submitted by the State of Georgia, through the GAEPD, on March 15, 2005. These revisions pertain to Georgia's rules for Air Quality Control. These revisions were the subject of a public hearing held on March 18, 2004, adopted by the Board of Natural Resources on April 28, 2004, and became State effective on July 8, 2004. These revisions satisfy the additional requirements for severe 1-hour ozone nonattainment areas required as a result of the final rule published by EPA on September 26, 2003, in the Federal Register (see 68 FR 55469) reclassifying the Atlanta 1-hour ozone nonattainment area from serious to severe.

As a result of the Atlanta 1-hour ozone nonattainment area being reclassified to severe, GAEPD was required to submit a SIP revision addressing the additional requirements for severe areas pursuant to section 182(d) of the CAA. Those requirements are addressed below. The Atlanta 1-hour severe ozone nonattainment area (Atlanta area) includes the following counties: Cherokee, Clayton, Cobb, Coweta, DeKalb, Douglas, Fayette, Forsyth, Fulton, Gwinnett, Henry, Paulding and Rockdale.

III. Analysis of State's Submittal

Under section 182(d) of the CAA, states with severe ozone nonattainment areas are required to revise their rules to include (1) a reduction in the major stationary source threshold for volatile organic compounds (VOC) and nitrogen oxides (NOX) to 25 tons per year from 50 tons per year; (2) additional reasonably available control technology (RACT) rules for sources subject to the new lower major source applicability threshold; and (3) an increase in the New Source Review (NSR) offset requirement to at least 1.3 to 1 from the serious area requirement of 1.2 to 1. EPA has reviewed the State's revised rules and have found them to be consistent with the requirements of CAA section 182(d), thus the Agency is approving these revised rules into the Georgia SIP. A summary of the revised rules follows:

Rule 391-3-1-.02, subparagraph (2)(yy): “Emissions of Nitrogen Oxides from Major Sources,” is being amended to lower the applicability threshold from 50 to 25 tons per year for sources located in the Atlanta area. Existing sources with NOX emissions between 25 and 50 tons per year must adopt RACT to reduce those emissions over 25 tons per year according to a schedule set forth in the amended rule.

Rule 391-3-1-.03, subparagraph (6)(g): “Permit Exemptions—Pollution Control Facilities—Municipal Solid Waste Landfills,” is being amended to reduce the permit exemption threshold for municipal solid waste landfills from 50 to 25 tons of NOX per year.

Rule 391-3-1-.03, subparagraph (8)(c)13: “Permit Requirements—Additional Provisions for Ozone Nonattainment Areas,” is being amended to require newly constructed major sources, as well as modifications to existing major sources that result in emissions increases of VOC or NOX exceeding 25 tons per year, to offset those new emissions by obtaining enforceable emission reductions from other sources located within the nonattainment area at a ratio of 1.3 to 1 consistent with the NSR requirements for severe ozone nonattainment areas.

Rule 391-3-1-.03, subparagraph (11)(b)1: “Permit by Rule Standards—Fuel-Burning Equipment Burning Natural Gas/LPG and/or Distillate Oil,” is being amended. This rule currently allows certain fuel-burning facilities to avoid Title V permitting requirements provided they meet annual fuel usage limits and maintain records as specified in the rule. As a result of the Atlanta 1-hour ozone nonattainment area's reclassification, the proposed annual fuel usage limits are being lowered to allow fuel-burning equipment to utilize a mixture of distillate fuel oil and natural gas or Liquid Petroleum Gas (LPG) while keeping NOX emissions at approximately 80% of the new major source threshold. The amended rule limits those affected sources located in the Atlanta area to usage of 300 (from 450) million cubic feet of natural gas or 1.5 (from 3.5) million gallons of LPG and 500,000 (from 800,000) gallons of distillate oil during any twelve consecutive months. The revised rule also requires affected sources in those counties to submit a new written certification of compliance with the revised rule by no later than October 31, 2004.

Rule 391-3-1-.03, subparagraph (11)(b)2: “Permit by Rule Standards—Fuel-Burning Equipment Burning Natural Gas/LPG and/or Residual Oil,” is being amended to reduce the annual fuel usage limits to correspond to the reduction in major source threshold from 50 to 25 tons per year. The proposed annual fuel usage limits are designed to allow fuel-burning equipment to utilize a mixture of residual fuel oil and natural gas or LPG while keeping NOX emissions at approximately 80% of the new major source threshold. The amended rule limits those affected sources located in the Atlanta area to usage of 300 (from 400) million cubic feet of natural gas or 1.5 (from 3.2) million gallons of LPG) and 200,000 (from 400,000) gallons of residual oil during any twelve consecutive months, and requires affected sources in those counties to submit a new written certification of compliance with the revised rule by no later than October 31, 2004.

Rule 391-3-1-.03, subparagraph (11)(b)3: “Permit by Rule Standards—On-Site Power Generation,” is being amended to reduce annual fuel usage limits to correspond to the reduction in major source threshold from 50 to 25 tons per year. The amended rule limits those affected sources located in the Atlanta area to production of 1.675 (from 3.35) million horsepower-hours during any twelve consecutive months, and requires affected sources in those counties to submit a new written certification of compliance with the revised rule by no later than October 31, 2004.

Rule 391-3-1-.03, subparagraph (11)(b)5: “Permit by Rule Standards—Hot Mix Asphalt Plants,” is being amended to reduce the annual fuel usage limits to correspond to the reduction in major source threshold from 50 to 25 tons per year. The current statewide Permit by Rule limits are intended to keep SO2 emissions below the 100 ton per year major source threshold. This rule amendment adds new provisions for asphalt plants located within the 13-county Atlanta 1-hour Ozone Nonattainment Area so that their NOX emissions will not exceed 80% of the new major source threshold. The amended rule limits those affected sources located in the Atlanta area to production of 300,000 (from 400,000) tons of asphalt per 12 consecutive months at “new” (i.e., constructed or modified after June 11, 1973) plants that are permitted to burn natural gas/LPG and/or distillate oil only. The amended rule limits new and existing asphalt plants in the 13-county Atlanta 1-hour ozone nonattainment area that are permitted to burn natural gas/LPG, distillate oil, and residual oil in any combination, to production of 125,000 (from 200,000) tons of asphalt per 12 consecutive months. Those facilities permitted to burn oil in any combination will be limited to usage of 250,000 (from 678,000) gallons of oil per 12 consecutive months. The current limit on fuel oil sulfur content of 1.5 percent remains unchanged. Affected sources in the 13-county Atlanta 1-hour ozone nonattainment area will be required to submit a new written certification of compliance with the revised rule by no later than October 31, 2004.

Rule 391-3-1-.03, subparagraph (13)(d)1: “Emission Reduction Credits—Discounting and Revocation of Emission Reduction Credits,” is being amended. Under the previous rule, sources subject to this rule were allowed to bank emission credits that had been created by actual, enforceable reductions in emissions at a facility. Subparagraph (d)(1)(i)(II) of the previous rule provided for discounting (by 20%) emission reduction credits created at facilities located in the Atlanta area that have potential emissions of VOC and/or NOX that are above the rule applicability threshold of 25 tons per year, but less than the serious area major source threshold of 50 tons per year. As a result of the Atlanta 1-hour ozone nonattainment area's reclassification from serious to severe, all sources in the area of VOC and NOX that emit at least 25 tons per year will no longer be able to bank credits for any emissions of VOC and/or NOX exceeding the severe area threshold.

IV. Final Action

EPA is approving the aforementioned changes to the Georgia SIP because they are consistent with the Clean Air Act and Agency requirements. The EPA is publishing this rule without prior proposal because the Agency views this as a noncontroversial submittal and anticipates no adverse comments. However, in the proposed rules section of this Federal Register publication, EPA is publishing a separate document that will serve as the proposal to approve the SIP revision should adverse comments be filed. This rule will be effective July 8, 2005 without further notice unless the Agency receives adverse comments by June 8, 2005.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on July 8, 2005 and no further action will be taken on the proposed rule. Please note that if we receive adverse comment on an amendment, paragraph, or section of this rule and if that provision may be severed from the remainder of the rule, we may adopt as final those provisions of the rule that are not the subject of an adverse comment.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 8, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Nitrogen dioxide, Ozone, Particulate matter, Reporting and recordkeeping requirements, Sulfur oxides, Volatile organic compounds.

Dated: April 29, 2005.
A. Stanley Meiburg,
Acting Regional Administrator, Region 4.

Part 52 of chapter I, title 40, Code of Federal Regulations, is amended as follows:

PART 52—[AMENDED]

1. The authority citation for part 52 continues to read as follows:

Authority: 42 U.S.C. 7401 et seq.

Subpart L—Georgia

2. Section 52.570(c), is amended by revising entries for: “391-3-1-.02(2)(yy) Emissions of Nitrogen Oxides from Major Sources” and “391-3-1-.03 Permits” to read as follows:

§ 52.570 Identification of plan.

* * * * *

(c) * * *

EPA-Approved Georgia Regulations
State citation | Title/subject | State effective date | EPA approval date | Explanation
* * * * * * *
391-3-1-.02(2)(yy) | Emissions of Nitrogen Oxides from Major Sources | 7/8/2004 | 5/9/2005 [Insert first page number of publication]
* * * * * * *
391-3-1-.03 | Permits | 7/8/2004 | 5/9/2005 [Insert first page number of publication]
* * * * * * *

* * * * *

[FR Doc. 05-9215 Filed 5-6-05; 8:45 am]

BILLING CODE 6560-50-P